DEPARTMENT OF ENERGY

Proposed Agency Information Collection: Contracting

AGENCY: Bonneville Power Administration, Department of Energy.

ACTION: Notice and request for OMB review and comment.

SUMMARY: Bonneville Power Administration (BPA) has submitted to the Office of Management and Budget (OMB) for clearance, a proposal for collection of information pursuant to the Paperwork Reduction Act of 1995. The proposed collection will allow BPA to exercise management and oversight awarding of contracts in a cost-effective manner, and for safeguarding the interests of Bonneville in its contractual relationships. In order to perform these responsibilities, Contracting officers require information collections from prospective or current vendors regarding how they are fulfilling their contractual obligations. We have one correction to make on the annual estimated number of burden hours.

DATES: Comments regarding this proposed information collection must be received on or before September 25, 2020. If you anticipate any difficulties in submitting your comments by the deadline, contact the OMB Desk Officer by email or mail.

ADDRESSES: Written comments should be sent to OMB Desk Officer: Office of Information and Regulatory Affairs, Office of Management and Budget, New Executive Office Building, Room 10102, 735 17th Street NW, Washington, DC 20503. Oira submission@omb.eop.gov.

FOR FURTHER INFORMATION CONTACT: Requests for additional information or copies of the information collection instrument and instructions should be directed to Attn: Laura McCarthy, CGI-7, P.O. Box 3621, Portland, OR 97208-3621, or by fax Attn: Laura McCarthy, CGI-7 at 503-230-4619, or by email at ljmccarthy@bpa.gov.

SUPPLEMENTARY INFORMATION: This information collection request contains:

(1) OMB No.: New; (2) Information Collection Request Title: Contracting; (3) Type of Request: Existing collections without OMB Control Number; (4) Purpose: This information collection is associated with BPA's management and oversight of contracting requirements in fulfillment of BPA vendor contracts. Non-employees, contractors, and the general public complete the following forms: BPA F 4220.04—Subcontracting Report for Individual Contracts; BPA F 4220.51—Amendment of Solicitation/Modification of Contract/Order; BPA F 4220.52—Solicitation, Offer, and Award for Construction; and BPA F 4220.55 —Solicitation/Contract/Order for Services and/or Items; (5) Estimated Number of Respondents: 3,370; (6) Annual Estimated Number of Respondents: 3,370; (7) Annual Estimated Number of Burden Hours: 543; and (8) Annual Estimated Reporting and Recordkeeping Cost Burden: 0. We have corrected the number of burden hours to 543 from the original 108 hours. We were incorrect with the estimated burden response for form BPA F 4220.51—Amendment of Solicitation/Modification of Contract/Order.

Statutory Authority: The Bonneville Project Act codified at 16 U.S.C. 832; the Federal Columbia River Transmission System Act of 1974; and the Pacific Northwest Electric Power Planning and Conservation Act.

Signing Authority

This document of the Department of Energy, was signed on June 9, 2020, by Candice D. Palen, Information Collection Clearance Manager, Bonneville Power Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 20, 2020.
Treena V. Garrett,
Federal Register Liaison Officer, U.S. Department of Energy.

[FR Doc. 2020-18682 Filed 8-25-20; 8:45 am]

BILLING CODE 6450-01-P